DEPARTMENT OF HOMELAND SECURITY

Federal Emergency Management Agency

[Docket ID FEMA-2020-0002; Internal Agency Docket No. FEMA-B-2046]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Litchfield Park (20-09-0240P). | The Honorable Thomas L. Schoaf, Mayor, City of Litchfield Park, 214 West Wigwam Boulevard, Litchfield Park, AZ 85340. | City Hall, 214 West Wigwam Boulevard, Litchfield Park, AZ 85340. | https://msc.fema.gov/portal/advanceSearch. | Oct. 20, 2020 | 040128
Maricopa | City of Peoria (20-09-0149P). | The Honorable Cathy Carlat, Mayor, City of Peoria, 8401 West Monroe Street, Peoria, AZ 85345. | City Hall, 8401 West Monroe Street, Peoria, AZ 85345. | https://msc.fema.gov/portal/advanceSearch. | Sep. 18, 2020 | 040050
Maricopa | City of Phoenix (20-09-1323P). | The Honorable Kate Gallego, Mayor, City of Phoenix, 200 West Washington Street, 11th Floor, Phoenix, AZ 85003. | Street Transportation Department, 200 West Washington Street, 5th Floor, Phoenix, AZ 85003. | https://msc.fema.gov/portal/advanceSearch. | Oct. 16, 2020 | 040051
Maricopa | City of Surprise (20-09-0147P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Sep. 18, 2020 | 040053
Maricopa | City of Surprise (20-09-0619P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Sep. 18, 2020 | 040053
Maricopa | City of Tempe (20-09-1323P). | The Honorable Mark Mitchell, Mayor, City of Tempe, P.O. Box 5002, Tempe, AZ 85280. | City Hall, Engineering Department, 31 East 5th Street, Tempe, AZ 85281. | https://msc.fema.gov/portal/advanceSearch. | Oct. 16, 2020 | 040054
Maricopa | Unincorporated Areas of Maricopa County (20-09-0020P). | The Honorable Clint L. Hickman, Chairman, Board of Supervisors, Maricopa County, 301 West Jefferson Street, 10th Floor, Phoenix, AZ 85003. | Flood Control District of Maricopa County, 2801 West Durango Street, Phoenix, AZ 85009. | https://msc.fema.gov/portal/advanceSearch. | Sep. 18, 2020 | 040037
California:
Los Angeles | City of Santa Clarita (20-09-0137P). | The Honorable Cameron Smyth, Mayor, City of Santa Clarita, 23920 Valencia Boulevard, Suite 300, Santa Clarita, CA 91355. | City Hall, Planning Department, 23920 Valencia Boulevard, Suite 300, Santa Clarita, CA 91355. | https://msc.fema.gov/portal/advanceSearch. | Sep. 23, 2020 | 060729
Riverside | City of Banning (19-09-2247P). | The Honorable Daniela Andrade, Mayor, City of Banning, 99 East Ramsey Street, Banning, CA 92220. | Public Works Department, 99 East Ramsey Street, Banning, CA 92220. | https://msc.fema.gov/portal/advanceSearch. | Sep. 23, 2020 | 060246
Sacramento | City of Elk Grove (20-09-0792P). | The Honorable Steve Ly, Mayor, City of Elk Grove, 8401 Laguna Palms Way, Elk Grove, CA 95758. | Public Works Department, 8401 Laguna Palms Way, Elk Grove, CA 95758. | https://msc.fema.gov/portal/advanceSearch. | Oct. 27, 2020 | 060767
San Diego | City of San Marcos (20-09-0211P). | The Honorable Rebecca Jones, Mayor, City of San Marcos, 1 Civic Center Drive, San Marcos, CA 92069. | City Hall, 1 Civic Center Drive, San Marcos, CA 92069. | https://msc.fema.gov/portal/advanceSearch. | Oct. 16, 2020 | 060296
San Diego | City of Vista (20-09-0048P). | The Honorable Judy Ritter, Mayor, City of Vista, 200 Civic Center Drive, Vista, CA 92084. | City Hall, 200 Civic Center Drive, Vista, CA 92084. | https://msc.fema.gov/portal/advanceSearch. | Sep. 23, 2020 | 060297
Ventura | City of Simi Valley (18-09-0918P). | The Honorable Keith L. Mashburn, Mayor, City of Simi Valley, 2929 Tapo Canyon Road, Simi Valley, CA 93063. | City Hall, 2929 Tapo Canyon Road, Simi Valley, CA 93063. | https://msc.fema.gov/portal/advanceSearch. | Sep. 23, 2020 | 060421
Ventura | City of Simi Valley (18-09-2061P). | The Honorable Keith L. Mashburn, Mayor, City of Simi Valley, 2929 Tapo Canyon Road, Simi Valley, CA 93063. | City Hall, 2929 Tapo Canyon Road, Simi Valley, CA 93063. | https://msc.fema.gov/portal/advanceSearch. | Nov. 6, 2020 | 060421
Iowa:
Polk | City of Johnston (20-07-0961P). | The Honorable Paula Dierenfeld, Mayor, City of Johnston, 6221 Merle Hay Road, Johnston, IA 50131. | City Hall, 6221 Merle Hay Road, Johnston, IA 50131. | https://msc.fema.gov/portal/advanceSearch. | Oct. 21, 2020 | 190745
Polk | Unincorporated Areas of Polk County (20-07-0961P). | Mr. Tom Hockensmith, Supervisor, Board of Polk County Supervisors, Polk County Administration Building, 111 Court Avenue, Room 300, Des Moines, IA 50309. | Polk County Public Works, 5885 Northeast 14th Street, Des Moines, IA 50313. | https://msc.fema.gov/portal/advanceSearch. | Oct. 21, 2020 | 190901
Nebraska: Lancaster | City of Lincoln (20-07-0142P). | The Honorable Leirion Gaylor Baird, Mayor, City of Lincoln, 555 South 10th Street, Suite 301, Lincoln, NE 68508. | Building & Safety Department, 555 South 10th Street, Lincoln, NE 68508. | https://msc.fema.gov/portal/advanceSearch. | Sep. 25, 2020 | 315273
Nevada: Washoe | Unincorporated Areas of Washoe County (20-09-0371P). | The Honorable Bob Lucey, Chairman, Board of Commissioners, Washoe County, 1001 East 9th Street, Building A, Reno, NV 89512. | Washoe County Administration Building, Department of Public Works, 1001 East 9th Street, Reno, NV 89512. | https://msc.fema.gov/portal/advanceSearch. | Oct. 8, 2020 | 320019
New Jersey: Essex | Township of Belleville (19-02-0938P). | The Honorable Michael Melham, Mayor, Township of Belleville, 152 Washington Avenue #1, Belleville, NJ 07109. | Engineering Office, 152 Washington Avenue, Belleville, NJ 07109. | https://msc.fema.gov/portal/advanceSearch. | Sep. 25, 2020 | 340177
New York: Westchester | Village of Mamaroneck (20-02-0294P). | The Honorable Thomas A. Murphy, Mayor, Village of Mamaroneck, 123 Mamaroneck Avenue, Mamaroneck, NY 10543. | Building Inspector, The Regatta Building, 123 Mamaroneck Avenue, Mamaroneck, NY 10543. | https://msc.fema.gov/portal/advanceSearch. | Dec. 3, 2020 | 360916
Ohio:
Cuyahoga | City of North Olmsted (19-05-3365P). | The Honorable Kevin M. Kennedy, Mayor, City of North Olmsted, 5200 Dover Center Road, North Olmsted, OH 44070. | City Hall, 5200 Dover Center Road, North Olmsted, OH 44070. | https://msc.fema.gov/portal/advanceSearch. | Oct. 29, 2020 | 390120
Cuyahoga | City of Westlake (19-05-3365P). | The Honorable Dennis M. Clough, Mayor, City of Westlake, 27700 Hilliard Boulevard Westlake, OH 44145. | City Hall, 27700 Hilliard Boulevard, Westlake, OH 44145. | https://msc.fema.gov/portal/advanceSearch. | Oct. 29, 2020 | 390136
Texas:
Tarrant | City of Arlington (19-06-0599P). | The Honorable Jeff Williams, Mayor, City of Arlington, City Hall, P.O. Box 90231, Arlington, TX 76010. | City Hall, 101 West Abram Street, Arlington, TX 76010. | https://msc.fema.gov/portal/advanceSearch. | Oct. 22, 2020 | 485454
Tarrant | City of Arlington (20-06-2305P). | The Honorable Jeff Williams, Mayor, City of Arlington, City Hall, P.O. Box 90231, Arlington, TX 76010. | City Hall, 101 West Abram Street, Arlington, TX 76010. | https://msc.fema.gov/portal/advanceSearch. | Sep. 24, 2020 | 485454
Tarrant | City of Grand Prairie (20-06-2305P). | The Honorable Ron Jensen, Mayor, City of Grand Prairie, P.O. Box 534045, Grand Prairie, TX 75053. | Community Development Center, 206 West Church Street, Grand Prairie, TX 75050. | https://msc.fema.gov/portal/advanceSearch. | Sep. 24, 2020 | 485472
Wisconsin:
Brown | Village of Ashwaubenon (20-05-2968P). | The Honorable Mary Kardoskee, President, Village of Ashwaubenon, Village Hall, 2155 Holmgren Way, Ashwaubenon, WI 54304. | Village Hall, 2155 Holmgren Way, Ashwaubenon, WI 54304. | https://msc.fema.gov/portal/advanceSearch. | Oct. 16, 2020 | 550600
Jefferson | City of Jefferson (20-05-1721P). | The Honorable Dale Oppermann, Mayor, City of Jefferson, 317 South Main Street, Jefferson, WI 53549. | City Hall, 317 South Main Street, Jefferson, WI 53549. | https://msc.fema.gov/portal/advanceSearch. | Nov. 6, 2020 | 55 555561

[FR Doc. 2020-16612 Filed 7-30-20; 8:45 am]

BILLING CODE 9110-12-P